DEPARTMENT OF HEALTH AND HUMAN SERVICES

Substance Abuse and Mental Health Services Administration

Notice of Meeting

Pursuant to Public Law 92-463, notice is hereby given that the Substance Abuse and Mental Health Services Administration's (SAMHSA) Center for Substance Abuse Prevention's (CSAP) Drug Testing Advisory Board (DTAB) will convene via web conference on March 2nd, 2021, from 10:00 a.m. EST to 4:30 p.m. EST, and March 3rd, 2021, from 10:00 a.m. EST to 4:30 p.m. EST.

The board will meet in open-session March 2nd, 2021, from 10:00 a.m. EST to 2:00 p.m. EST to discuss the Mandatory Guidelines for Federal Workplace Drug Testing Programs with updates from the Department of Transportation, the Nuclear Regulatory Commission, and the Department of Defense. Other discussion topics include an update on marijuana studies and efforts as well as the Employee Assistance Program (EAP) Toolkit. The board will meet in closed-session on March 2nd, 2021, from 2:15 p.m. EST to 4:30 p.m. EST, and March 3rd, 2021, from 10:00 a.m. EST to 4:30 p.m. EST, to discuss confidential issues surrounding the proposed Mandatory Guidelines for Federal Workplace Drug Testing Programs (hair), the Federal Drug-Free Workplace Programs and emerging issues, updates on the revisions of the Urine and Oral Fluid Mandatory Guidelines and the Biomarker Table, preliminary and unpublished studies from the Johns Hopkins University Behavioral Pharmacology Research Unit (BPRU), and cannabidiol (CBD) information from FDA. Therefore, the March 2nd, 2021, from 2:15 p.m. EST to 4:30 p.m. EST, and the March 3rd, 2021, from 10:00 a.m. EST to 4:30 p.m. EST, meetings are closed to the public, as determined by the Assistant Secretary for Mental Health and Substance Use, SAMHSA, in accordance with 5 U.S.C. 552b(c)(4) and (9)(B), and 5 U.S.C. App. 2, Section 10(d).

Meeting registration can be completed at http://snacregister.samhsa.gov/MeetingList.aspx. Web conference and call information will be sent after completing registration. Meeting information and a roster of DTAB members may be obtained by accessing the SAMHSA Advisory Committees website, https://www.samhsa.gov/about-us/advisory-councils/meetings or by contacting the Designated Federal Officer, Jennifer Fan.

Committee Name: Substance Abuse and Mental Health Services Administration, Center for Substance Abuse Prevention, Drug Testing Advisory Board.

Dates/Time/Type: March 2, 2021, from 10:00 a.m. to 2:00 p.m. EST: OPEN, March 2, 2021, from 2:15 p.m. to 4:30 p.m. EST: CLOSED, March 3, 2021, from 10:00 a.m. to 4:30 p.m. EST: CLOSED.

Place: Substance Abuse and Mental Health Services Administration, 5600 Fishers Lane, Rockville, MD 20857.

Contact: Jennifer Fan, Senior Pharmacist, Center for Substance Abuse Prevention, 5600 Fishers Lane, Room 16N06D, Rockville, Maryland 20857, Telephone: (240) 276-1759, Email: jennifer.fan@samhsa.hhs.gov.

Note: For technical reasons, SAMHSA was unable to provide the normal 15-day advance noticification of the meeting.

Anastasia Marie Donovan,
Policy Anayst.

[FR Doc. 2021-03065 Filed 2-12-21; 8:45 am]

BILLING CODE 4162-20-P